DEPARTMENT OF HEALTH AND HUMAN SERVICES

Centers for Disease Control and Prevention

Disease, Disability, and Injury Prevention and Control Special Emphasis Panel (SEP): Initial Review

The meeting announced below concerns National Center for Construction Safety and Health Research and Translation (U60, Request for Application (RFA) OH13-001, initial review.

In accordance with Section 10(a)(2) of the Federal Advisory Committee Act (Pub. L. 92-463), the Centers for Disease Control and Prevention (CDC) announces the aforementioned meeting:

Time and Date: 8 a.m.-5 p.m., November 19, 2013 (Closed); 8 a.m.-5 p.m., November 20, 2013 (Closed); 8 a.m.-12 p.m., November 21, 2013 (Closed).

Place: Embassy Suites Alexandria Hotel, 1900 Diagonal Road, Alexandria, Virginia 22314, Telephone: (703)842-7030.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “National Center for Construction Safety and Health Research and Translation (U60), RFA OH13-001.”

For Further Information Contact: George Bockosh, M.S., Scientific Review Officer, CDC/NIOSH, 626 Cochrans Mill Road, Mailstop P-05, Pittsburgh, Pennsylvania 15236, Telephone: (412) 386-6465 and Joan Karr, Ph.D., Scientific Review Officer, CDC/NIOSH, 1600 Clifton Road, Mailstop E-74, Atlanta, Georgia 30333, Telephone: (404) 498-2506.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office Centers for Disease Control and Prevention.

[FR Doc. 2013-24063 Filed 10-1-13; 8:45 am]

BILLING CODE 4163-18-P